DEPARTMENT OF STATE

[Public Notice No. 3433]

Shipping Coordinating Committee; Notice of Meeting

The U.S. Shipping Coordinating Committee (SHC) will conduct an open meeting at 10 a.m. on Wednesday, November 8, 2000, in Room 6319 at U.S. Coast Guard Headquarters, 2100 Second Street, SW., Washington, DC. The purpose of this meeting is to report the results of the Eighty-Second Session of the International Maritime Organization (IMO) Legal Committee (LEG 82) and the results of the meeting of the Joint International Maritime Organization/International Labor Organization Ad Hoc Expert Working Group on Liability and Compensation Regarding Claims for Death, Personal Injury and Abandonment of Seafarers (IMO/ILO Ad Hoc Expert Working Group).

At LEG 82, the Legal Committee will continue work on a draft protocol to the Athens Convention Relating to the Carriage of Passengers and Their Luggage by Sea, and on the draft Wreck Removal Convention. The Committee will also consider a proposal to increase the limits of compensation under the 1992 protocols to the 1969 International Convention on Civil Liability for Oil Pollution Damage and the 1971 International Convention on the Establishment of an International Fund for Compensation for Oil Pollution Damage. The Legal Committee will then turn its attention to the implementation of the International Convention on Liability and Compensation for Damage in Connection With the Carriage of Hazardous and Noxious Substances by Sea, and time will also be allotted to address any other issues on the Legal Committee's work program on which there are questions or comments.

The IMO/ILO Ad Hoc Expert Working Group continue to examine the issue of financial security for seafarers and their dependents with regard to compensation in cases of personal injury, death and abandonment. During this meeting, the group will review and analyze information received in response to a questionnaire sent to member states.

Members of the public are invited to attend the SHC meeting up to the seating capacity of the room. For further information, or to submit views in advance of the meeting, please contact Captain Joesph F. Ahern or Lieutenant Daniel J. Goettle, U.S. Coast Guard, Office of Maritime and International Law (G-LMI), 2100 Second Street, SW., Washington, DC 20593-0001; telephone (202) 267-1527; fax (202) 267-4496.

Dated: October 10, 2000.
Stephen M. Miller,
Executive Secretary, Shipping Coordinating Committee.

[FR Doc. 00-26493 Filed 10-13-00; 8:45 am]

BILLING CODE 4710-07-P